DEPARTMENT OF HEALTH AND HUMAN SERVICES

National Institutes of Health

Submission for OMB Review; 30-Day Comment Request: International HIV/AIDS Research Fellowship Award Program (NIDA)

SUMMARY: Under the provisions of Section 3507(a)(1)(D) of the Paperwork Reduction Act of 1995, the National Institutes of Health (NIH) has submitted to the Office of Management and Budget (OMB) a request to review and approve the information collection listed below. This proposed information collection was previously published in the Federal Register on October 8, 2014, page 60895, and allowed 60 days for public comment. No comments were received. The purpose of this notice is to allow an additional 30 days for public comment. The National Institute on Drug Abuse (NIDA), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

Comment Due Date: Comments regarding this information collection are best assured of having their full effect if received within 30-days of the date of this publication.

FOR FURTHER INFORMATION CONTACT: To obtain a copy of the data collection plans and instruments or request more information on the proposed project contact: Steve W. Gust, Ph.D., Director, NIDA International Program, NIDA, NIH, 6001 Executive Blvd., Bethesda, Maryland 20892-0234; or call non-toll-free number (301) 443-6480; or Email: your request, including your address to: sgust@nida.nih.gov. Formal requests for additional plans and instruments must be requested in writing.

Proposed Collection: International HIV/AIDS Research Fellowship Award Program, 0925-New, National Institute on Drug Abuse (NIDA), National Institutes of Health (NIH).

Need and Use of Information Collection: Initially this collection was part of a clearance request for the application forms for two programs, and due to protracted delays in the readiness of one of the programs it became necessary to create a stand-alone request for this program. This request is for the Application Form for this international training program. The program will recruit post-doctoral researchers into a new fellowship research training program for HIV and drug use. The program will train new researchers in research to advance the science of HIV and drug use and foster multinational research in this disease area. The program is open to all foreign nationals. The Application Form will collect necessary information for determining the most meritorious applicants. NIDA is requesting approval from OMB for this application form to be used by the Institute's fellowship program to train new researchers and fund experienced scientists, of other nations, in research to advance the science of HIV and drug use while fostering multinational research in this disease area. The application form will be web-based.

OMB approval is requested for 3 years. There are no costs to respondents other than their time. The total annual estimated burden hours are 83.

Estimated Annualized Burden Hours
Form name | Type of respondent | Number of respondents | Number of responses per respondent | Average burden per response (in hours) | Total annual burden hours
A. Application | Applicant Scientists | 45 | 1 | 60/60 | 45
B. Consent Information | Applicant Scientists | 45 | 1 | 30/60 | 23
C. Mentor Information and Agreement | Scientists | 45 | 1 | 20/60 | 15

Dated: September 29, 2015.
Genevieve R. deAlmeida,
Project Clearance Liaison, National Institute on Drug Abuse.

[FR Doc. 2015-25935 Filed 10-9-15; 8:45 am]

BILLING CODE 4140-01-P